DEPARTMENT OF STATE

[Delegation of Authority No. 382]

Delegation by the Secretary of State to the Under Secretary of State for Arms Control and International Security With Respect to Authority Under Section 1203 of the Fiscal Year 2014 National Defense Authorization Act

By virtue of the authority vested in me as Secretary of State, including Section 1 of the State Department Basic Authorities Act and by the Fiscal Year 2014 National Defense Authorization Act, Public Law 113-66 (NDAA), I hereby delegate to the Under Secretary of State for Arms Control and International Security the authority to provide concurrence on Department of Defense security assistance activities pursuant to Section 1203 of the NDAA.

The duties, functions and responsibilities delegated may be re-delegated to the Assistant Secretary of State for Political-Military Affairs. Any act or other authority cited herein is considered to be such act or other authority as amended from time to time.

Notwithstanding this delegation of authority, the Secretary, the Deputy Secretary, or the Under Secretary for Political Affairs may exercise any authority or function delegated herein.

This delegation of authority shall be published in the Federal Register.

Dated: January 26, 2015.
John F. Kerry,
Secretary of State.

[FR Doc. 2015-05262 Filed 3-5-15; 8:45 am]

BILLING CODE 4710-25-P